DEPARTMENT OF TRANSPORTATION

Federal Highway Administration

Environmental Impact Statement: Kern County, CA

AGENCY: Federal Highway Administration (FHWA), DOT.

ACTION: Rescind Notice of Intent to prepare an Environmental Impact Statement.

SUMMARY: The FHWA, on behalf of the California Department of Transportation (Caltrans), is issuing this notice to advise the public that the Notice of Intent (NOI) published on April 23, 2008, to prepare an Environmental Impact Statement (EIS) for the proposed 24th Street Improvement Project in Kern County, California, is being rescinded.

FOR FURTHER INFORMATION CONTACT: Kirsten Helton, Senior Environmental Planner, Southern Valley Environmental Analysis Branch, Caltrans, 2015 E. Shields Avenue, Suite 100, Fresno, California 93726 or call (559) 243-8224.

SUPPLEMENTARY INFORMATION: Effective July 1, 2007, the FHWA assigned, and Caltrans assumed, environmental responsibilities for this project pursuant to 23 U.S.C. 327. Caltrans, in cooperation with the City of Bakersfield, is rescinding the NOI to prepare an EIS for the 24th Street Improvement Project in Kern County, California.

The proposed project would improve transportation operations along 24th Street and the Oak Street/24th Street intersection to accommodate existing and future traffic volumes and achieve acceptable levels of service within the corridor. The proposed infrastructure improvements would alleviate existing traffic congestion and would result in improvement of local circulation. Since the NOI to prepare an EIS was published in the Federal Register on April 23, 2008, Caltrans has conducted public involvement and agency coordination, developed a purpose and need for the project, and developed preliminary alternatives to be examined. The preliminary alternatives included a No-Build and a set of three build alternatives for the improvements to the Oak Street/24th Street intersection, a set of three alternatives for the proposed widening of 24th Street between Oak Street and D Street; and reconstruction of 23rd Street and 24th Street between D Street and M Street (approximately 1.7 miles). Preliminary screenings identified sensitive environmental features associated with the proposed alternatives that could result in potentially significant adverse impacts.

Caltrans, as the assigned NEPA lead agency, has determined that a reduction of proposed project alternatives and upgrade improvements along existing State Route 178 would meet the need and purpose of the project and could be accomplished without potentially significant adverse impacts to sensitive environmental features. Caltrans will evaluate these improvements along the existing route within an Environmental Assessment. Comments and questions concerning the proposed action should be directed to Caltrans at the address provided above.

(Catalog of Federal Domestic Assistance Program Number 20.205, Highway Planning and Construction. The regulations implementing Executive Order 12372 regarding intergovernmental consultation on Federal programs and activities apply to this program.)

Issued on: November 4, 2010.
Cindy Vigue,
Director, State Programs, Federal Highway Administration, Sacramento, California.

[FR Doc. 2010-28342 Filed 11-9-10; 8:45 am]

BILLING CODE 4910-22-P